NATIONAL FOUNDATION ON THE ARTS AND THE HUMANITIES

National Endowment for the Arts

Leadership Initiatives Advisory Panel

Pursuant to Section 10(a)(2) of the Federal Advisory Committee Act (Public Law 92-463), as amended, notice is hereby given that three meetings of the Leadership Initiatives Advisory Panel will be held by teleconference at the Nancy Hanks Center, 1100 Pennsylvania Avenue, NW., Washington, D.C., 20506 as follows:

Presenting Section: from 1:00 p.m. to 4:00 p.m. on Tuesday, July 9, 2001 in Room 703;

Local Arts Agencies Section: from 4:00 p.m. to 4:30 p.m. on Wednesday, July 10, 2001 in Room 726;

Arts Education Section: from 1:00 p.m. to 4:00 p.m. on Wednesday, July 10, 2001 in Room 716.

These meetings are for the purpose of Panel review, discussion, evaluation, and recommendations on financial assistance under the National Foundation on the Arts and the Humanities Act of 1965, as amended, including information given in confidence to the agency. In accordance with the determination of the Chairman of May 22, 2001, these sessions will be closed to the public pursuant to subsection (c)(4), (6) and (9)(B) of section 552b of Title 5, United States Code.

Further information with reference to these meetings can be obtained from Ms. Kathy Plowitz-Worden, Panel Coordinator, National Endowment for the Arts, Washington, D.C., 20506, or call 202/682-5691.

Dated: July 2, 2001.
Kathy Plowitz-Worden,
Panel Coordinator, Panel Operations National Endowment for the Arts.

[FR Doc. 01-16965 Filed 7-3-01; 8:45 am]

BILLING CODE 7537-01-P